DEPARTMENT OF THE TREASURY

Office of Foreign Assets Control

Sanctions Actions Pursuant to Executive Orders 13722, 13382, and 13687

AGENCY: Office of Foreign Assets Control, Treasury.

ACTION: Notice.

SUMMARY: The Department of the Treasury's Office of Foreign Assets Control (OFAC) is publishing the names of one or more persons whose property and interests in property are blocked pursuant to Executive Orders (E.O.s) 13722, 13382, and 13687.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410 (not toll free numbers).

SUPPLEMENTARY INFORMATION:

Electronic Availability

The Specially Designated Nationals and Blocked Persons List and additional information concerning OFAC sanctions programs are available on OFAC's Web site (www.treasury.gov/ofac).

Notice of OFAC Action(s)

On June 1, 2017, OFAC determined that the property and interests in property subject to U.S. jurisdiction of the following persons are blocked pursuant to the relevant sanctions authorities listed below. Dealings in property subject to U.S. jurisdiction in which a person identified as meeting the definition of the Government of North Korea has an interest are generally prohibited as of the date of that status, which may be earlier than the date of OFAC's determination.

Individuals

1. RI, Song-hyok (a.k.a., LI, Cheng He), Beijing, China; DOB 19 Mar 1965; Gender Male; Passport 654234735 (Korea, North) (individual) [DPRK3] (Linked To: KORYO BANK; Linked To: KORYO CREDIT DEVELOPMENT BANK).

Designated pursuant to section 2(a)(i) and section 2(a)(vii) of E.O. 13722, “Blocking Property of the Government of North Korea and the Workers' Party of Korea, and Prohibiting Certain Transactions With Respect to North Korea,” for operating in the financial services industry in the North Korea economy; and for having materially assisted or provided financial or material support for KORYO BANK, a person whose property and interests in property are blocked pursuant to E.O. 13722.

2. MICHURIN, Igor Aleksandrovich, Russia; DOB 27 Jun 1978; Gender Male; Passport 8908104469 (individual) [NPWMD] (Linked To: KOREA TANGUN TRADING CORPORATION; Linked To: ARDIS-BEARINGS LLC).

Designated pursuant to section 1(a)(iii) and section 1(a)(iv) of E.O. 13382, “Blocking Property of Weapons of Mass Destruction Proliferators and Their Supporters,” for having provided or attempted to provide, financial, material, technological or other support for, or goods or services in support of, KOREA TANGUN TRADING CORPORATION, a person whose property and interests in property are blocked pursuant to E.O. 13382; and for acting or purporting to act, for or on behalf of, directly or indirectly, ARDIS-BEARINGS LLC, a person whose property and interests in property are blocked pursuant to E.O. 13382.

3. KIM, SU-KWANG (a.k.a. KIM, Son-gwang; a.k.a. KIM, Son-kwang; a.k.a. KIM, Sou-gwang; a.k.a. KIM, Sou-kwang; a.k.a. KIM, Su-gwang); DOB 18 Aug 1976; Gender Male (individual) [DPRK2] (Linked To: RECONNAISSANCE GENERAL BUREAU).

Designated pursuant to section 1(a)(ii) of to E.O. 13687, “Imposing Additional Sanctions With Respect to North Korea,” for being an official of the Government of North Korea.

Entities

1. SONGI TRADING COMPANY, Korea, North [DPRK3].

Designated pursuant to section 2(a)(ii) of E.O. 13722 for having sold, supplied, or transferred coal from North Korea, where any revenue or goods received may benefit the Government of North Korea.

2. INDEPENDENT PETROLEUM COMPANY (a.k.a. AKTSIONERNOE OBSHCHESTVO `NEZAVISIMAYA NEFTEGAZOVAYA KOMPANIYA'; a.k.a. NNK, AO), 1 Arbatskaya Square, Moscow 119019, Russia [DPRK3].

Designated pursuant to section 2(a)(i) of E.O. 13722 for operating in the energy industry in the North Korean economy.

3. AO NNK-PRIMORNEFTEPRODUCT (a.k.a. IPC-PRIMORNEFTEPRODUCT JSC; a.k.a. NNK-PRIMORNEFTEPRODUKT, AO; a.k.a. OAO PRIMORNEFTEPRODUCT), 55 Ul. Fontannaya, Vladivostok, Primorskiy Krai 690091, Russia [DPRK3] (Linked To: INDEPENDENT PETROLEUM COMPANY).

Designated pursuant to section 2(a)(viii) of E.O. 13722 for being owned or controlled by INDEPENDENT PETROLEUM COMPANY, a person whose property and interests in property are blocked pursuant to E.O. 13722.

4. KOREA COMPUTER CENTER (a.k.a. CHOSON COMPUTER CENTER; a.k.a. CHUNG SUN COMPUTER CENTER; a.k.a. KOREA COMPUTER COMPANY), Pyongyang, Korea, North; Germany; China; Syria; India; United Arab Emirates [DPRK3].

Designated pursuant to section 2(a)(iv) of E.O. 13722 for having engaged in, facilitated, or been responsible for the exportation of workers from North Korea, including exportation to generate revenue for the Government of North Korea or the Workers' Party of Korea.

5. KOREA ZINC INDUSTRIAL GROUP (a.k.a. KOREA ZINC INDUSTRY GENERAL CORPORATION; a.k.a. KOREA ZINC INDUSTRY GROUP; a.k.a. NORTH KOREAN ZINC INDUSTRY GROUP), Korea, North; Dalian, China [DPRK3].

Designated pursuant to section 2(a)(i) and section 2(a)(ii) of E.O. 13722 for operating in the mining industry in the North Korean economy and for having sold, supplied, or transferred zinc from North Korea, where revenue or goods received from such transactions may benefit the Government of North Korea or the Workers' Party of Korea, including North Korea's nuclear or ballistic missile programs.

6. KOREAN PEOPLE'S ARMY, Korea, North [DPRK3].

Identified as meeting the definition of the Government of North Korea as set forth in section 9(d) of E.O. 13722.

7. MINISTRY OF PEOPLE'S ARMED FORCES, Korea, North [DPRK3].

Identified as meeting the definition of the Government of North Korea as set forth in section 9(d) of E.O. 13722.

8. STATE AFFAIRS COMMISSION, Korea, North [DPRK3].

Identified as meeting the definition of the Government of North Korea as set forth in section 9(d) of E.O. 13722.

9. ARDIS-BEARINGS LLC, Office 35, Number 2, 1/13/6 Pokrovka Street, Moscow 101000, Russia [NPWMD] (Linked To: KOREA TANGUN TRADING CORPORATION).

Designated pursuant to section 1(a)(iii) of E.O. 13382 for having provided or attempted to provide, financial, material, technological or other support for, or goods or services in support of, KOREA TANGUN TRADING CORPORATION, a person whose property and interests in property are blocked pursuant to E.O. 13382.

Andrea M. Gacki,
Acting Director, Office of Foreign Assets Control.

[FR Doc. 2017-11969 Filed 6-8-17; 8:45 am]

BILLING CODE 4810-AL-P